DEPARTMENT OF COMMERCE

National Oceanic and Atmospheric Administration

50 CFR Part 679

[Docket No. 011218304-1304-01; I.D. 121701A]

RIN 0648-AQ02

Fisheries of the Exclusive Economic Zone Off Alaska; Revisions to Steller Sea Lion Protection Measures and Recordkeeping and Reporting Requirements; Correction

AGENCY: National Marine Fisheries Service (NMFS), National Oceanic and Atmospheric Administration (NOAA), Commerce.

ACTION: Final rule; correction.

SUMMARY: This action corrects the Steller sea lion emergency interim rule, as amended, corrected, and extended, which contains regulations relating to Fisheries of the Exclusive Economic Zone off Alaska. This action also corrects the recordkeeping and reporting final rule and its correction. This action is necessary to re-instate appropriate applicability dates and correct other errors and omissions that occurred.

DATES: Section 679.32(a) is suspended from January 1, 2002, through December 31, 2002.

The amendments to § § 679.2, 679.4, 679.5, 679.7, 679.20, 679.22, 679.23, 679.28, 679.31, and 679.50 are effective October 18, 2002 through December 31, 2002.

The amendment to § 679.43(a) and the revised Table 11 to Part 679 are effective October 18, 2002.

FOR FURTHER INFORMATION CONTACT: Patsy A. Bearden, 907-586-7008, or e-mail Patsy.Bearden@noaa.gov.

SUPPLEMENTARY INFORMATION: Since January 2002, several rules were published in the Federal Register by NMFS, Alaska Region, that require further correction by this action. These are the emergency interim rule published January 8, 2002 (67 FR 956), which implemented Steller sea lion protection measures (SSL rule), subsequently amended and corrected May 1, 2002 (67 FR 21600 (SSL correction), and extended May 16, 2002 (67 FR 34860) (SSL extension); and the final rule published January 28, 2002 (67 FR 4100), which amended regulations implementing recordkeeping and reporting requirements (R&R rule), corrected May 2, 2002 (67 FR 22008) (R&R correction).

The SSL rule, SSL correction, the R&R rule and R&R correction often address the same regulatory text. Despite NMFS' effort to ascertain errors common or shared by these rules, errors still exist in the regulatory text and are corrected by this action.

Need for Corrections

This rule re-establishes appropriate applicability dates for the regulations associated with the SSL rule and its subsequent amendment, correction, and extension. The SSL rule intended to specify that the provisions contained in it were to be suspended or effective from January 1, 2002, through July 8, 2002, with some exceptions. The SSL extension published May 16, 2002, extended the effective date of the rule, as amended and corrected by the May 1, 2002, SSL correction, through December 31, 2002. However, the SSL extension did not specify that the exception language contained in the DATES section of the preamble to the SSL correction was similarly extended and did not revise the codified text to identify SSL protection measures as applicable through December 31, 2002.

A separate rule published April 15, 2002 (67 FR 18129), implemented measures regarding the License Limitation Program (LLP) for the Bering Sea and Aleutian Islands Area and addressed § § 679.7 and 679.20 for the Community Development Quota Program under Amendment 67 (LLP rule). The LLP-rule revision of paragraph § 679.7(d)(16) supersedes the suspension of this paragraph published in the SSL rule. No changes were made to the language in paragraph (d)(16); the LLP rule merely replaced the suspended paragraph (d)(16) with an effective paragraph (d)(16).

The LLP rule removed paragraph § 679.7(d)(26). This paragraph was added by the SSL rule to replace the suspended paragraph (d)(16). However, with the revision of paragraph § 679.7(d)(16) in the LLP rule, paragraph (d)(26) is no longer necessary.

The LLP rule revised paragraph § 679.20(f)(2), which supersedes the suspension of this paragraph published in the SSL rule. No changes were made to the language in paragraph (f)(2). The LLP rule merely replaced the suspended paragraph (f)(2) with an effective paragraph (f)(2).

The LLP rule revised the language in paragraph § 679.7(f)(8), which supersedes the suspension of this paragraph published in the SSL rule.

The R&R correction redesignated paragraphs § 679.4(b)(5)(v), (vi), and (vii) for consistency between the SSL rule and the R&R rule. The renumbering of these paragraphs affected cross references in several paragraphs, which are corrected by this action.

Table 11 to part 679 was printed incorrectly in the R&R correction. Formatting errors prior to submission to the Office of the Federal Register resulted in the last four columns being omitted. This error is corrected by republishing Table 11.

Paragraph § 679.43(a) in the CFR describes the applicability of the Office of Administrative Appeals. This paragraph was revised in the R&R rule by adding sections regulating the appeals process. However, a separate rule published on December 14, 2000 (65 FR 78110), had revised paragraph § 679.43(a) to include all sections of 50 CFR part 679 in the appeals process and the revision to this paragraph should not have been included in the R&R rule. Thus, the language in this paragraph is returned to its original text.

Classification

The Assistant Administrator for Fisheries, NOAA, finds good cause to waive the requirement to provide prior notice and opportunity for public comment under the authority set forth at 5 U.S.C. 553(b)(B). Prior notice and comment are unnecessary because the terms this action changes will have no substantive effect on the regulated public. The changes are minor technical amendments correcting typographical errors and requiring no agency discretion. NMFS is not changing the regulations to the extent the corrections would affect participants or participation in the fisheries.

NMFS determines that there is no public interest affected by waiving prior notice and opportunity to comment. NMFS also determines that the public interest would be prejudiced more by prior notice and comment because it would prolong the inaccurate language that currently exists in the regulations. Therefore, the Assistant Administrator for Fisheries, NOAA, waives the 30-day delay in the effective date under 5 U.S.C. 553(d).

List of Subjects in 50 CFR Part 679

Alaska, Fisheries, Recordkeeping and reporting requirements.

Dated: September 18, 2002.
Rebecca Lent,
Deputy Assistant Administrator for Regulatory Programs.National Marine Fisheries Service.

Accordingly, 50 CFR part 679 is amended by making correcting amendments to the following publications of January 8, 2002, January 28, 2002, May 1, 2002, May 2, 2002, and May 16, 2002:

PART 679—FISHERIES OF THE EXCLUSIVE ECONOMIC ZONE OFF ALASKA

1. The authority citation for part 679 continues to read as follows:

Authority: Authority: 16 U.S.C. 773 et seq., 1801 et seq.; 3631 et seq.; Title II of Division C, Pub. L. 105-277; Sec 3027, Pub. L. 106-31; 113 Stat. 57; 16 U.S.C. 1540(f); and Sec. 209, Pub, L, 106-554.

§ 679.2 [Corrected]

2. In § 679.2, make the following amendments:

a. Remove the definitions for “Inshore component in the GOA” and “Offshore component in the GOA” whose applicability date reads: “(applicable through December 31, 2001)”;

b. In the definitions for “Harvest limit area for platoon managed Atka mackerel directed fishing”, “Inshore component in the GOA”, and “Offshore component in the GOA” remove the parenthetical date of applicability “(applicable through July 8, 2002)” and add in its place the parenthetical date of applicability “(applicable through December 31, 2002)”;

c. In the definition for “Harvest limit area for platoon managed Atka mackerel directed fishing”, the paragraph designation “§ § 679.4(b)(5)(iv),” is revised to read “§ § 679.4(b)(5)(vii),”.

§ 679.4 [Corrected]

3. In § 679.4(b)(5)(vi) and (b)(5)(vii), remove the parenthetical date of applicability “(Applicable through July 8, 2002)” and add in its place the parenthetical date of applicability “(Applicable through December 31, 2002)”.

§ 679.5 [Corrected]

4. In § 679.5(n)(2)(iii)(B)(4), remove the parenthetical date of applicability “(Applicable through July 8, 2002)” and add in its place the parenthetical date of applicability “(Applicable through December 31, 2002)”.

§ 679.7 [Corrected]

5. In § 679.7, make the following amendments:

a. In paragraphs (a)(7)(iii), (a)(7)(iv), (a)(7)(v), and (a)(7)(vii), (a)(17), (a)(19), (f)(16), (j), and (k), remove the parenthetical date of applicability “(applicable through July 8, 2002)” and add in its place the parenthetical date of applicability “(applicable through December 31, 2002)”;

b. In paragraph (a)(18), remove “(applicable 1200 hours, A.l.t., June 10, 2002, through July 8, 2002).” and add in its place “(applicable 1200 hours, A.l.t., June 10, 2002, through December 31, 2002).”; and

c. In paragraph (a)(18), revise the reference “§ 679.4(b)(5)(v)” to read “§ 679.4(b)(5)(vi)”.

§ 679.20 [Corrected]

6. In § 679.20, in paragraphs (a)(5)(i)(B), (a)(5)(i)(F), (a)(5)(ii)(C), (a)(6)(ii), (a)(6)(iii), (a)(7)(i)(C)(4), (a)(7)(i)(C)(5), (a)(7)(ii)(D) and (a)(7)(ii)(E), (a)(7)(iii)(D), (a)(8)(ii)(C), (a)(8)(iii), (a)(11), (b)(2)(i), (b)(2)(ii), and (d)(4), remove the parenthetical date of applicability “(applicable through July 8, 2002)” and add in its place the parenthetical date of applicability “(applicable through December 31, 2002)”.

§ 679.22 [Corrected]

7. In § 679.22, in paragraphs (a)(5)(iv), (a)(11), (a)(12), (b)(3), and (b)(6), remove the parenthetical date of applicability “(applicable through July 8, 2002)” and add in its place the parenthetical date of applicability “(applicable through December 31, 2002)”.

§ 679.23 [Corrected]

8. In § 679.23, in paragraphs (d)(3), (d)(4), (e)(4)(iv), (e)(4)(v), (e)(5), (e)(6), (e)(7), and (i) remove the parenthetical date of applicability “(applicable through July 8, 2002)” and add in its place the parenthetical date of applicability “(applicable through December 31, 2002)”.

§ 679.28 [Corrected]

9. In § 679.28(f)(3), make the following amendments:

a. In paragraph (f)(3)(viii), revise the parenthetical date of applicability “(Applicable 1200 hours A.l.t. June 10, 2002, through July 8, 2002)” to read “(Applicable 1200 hours A.l.t. June 10, 2002, through December 31, 2002)”,

b. In paragraph (f)(3)(ix), revise the parenthetical date of effectiveness “(Effective May 1, 2002, through July 8, 2002)” to read “(Applicable May 1, 2002, through December 21, 2002)”; and

c. In paragraphs (f)(3)(viii), introductory text, and (f)(3)(viii)(B), revise the reference “§ 679.4(b)(5)(v)” to read “§ 679.4(b)(5)(vi)”.

§ 679.31 [Corrected]

10. In § 679.31, in paragraph (g), remove the parenthetical date of applicability “(applicable through July 8, 2002)” and add it its place the parenthetical date of applicability “(applicable through December 31, 2002)”.

§ 679.32 [Corrected]

11. In § 679.32, suspend paragraph (a) from January 1, 2002, through December 31, 2002.

§ 679.43 [Corrected]

12. In § 679.43, amend paragraph (a), the last part of the sentence, which reads “under this subpart D as well as portions of subpart C of this part” to read “under this part 679”.

§ 679.50 [Corrected]

13. In § 679.50, amend as follows:

a. In paragraph (c)(1)(x), revise the parenthetical date of applicability “(Applicable through July 8, 2002)” to read “(Applicable through December 31, 2002)”;

b. In paragraph (c)(4)(vi), introductory text, remove the parenthetical date of applicability “(applicable January 15, 2002, through July 8, 2002).”;

c. At the beginning of paragraph (c)(4)(vi)(A), add the text “(Applicable January 15, 2002, through December 31, 2002)”;

d. In paragraph (c)(6), revise the parenthetical date of applicability “(applicable January 15, 2002, through July 8, 2002).” to read “(applicable January 15, 2002, through December 31, 2002).”; and

e. In paragraph (c)(4)(vi)(C), revise the parenthetical date of effectiveness “(Effective May 1, 2002, through July 8, 2002)” to read “(Effective May 1, 2002, through December 31, 2002)”.

14. Revise Table 11 to part 679 to read as follows:

BILLING CODE 3510-22-S

[FR Doc. 02-26597 Filed 10-17-02; 8:45 am]

BILLING CODE 3510-22-C